DEPARTMENT OF LABOR

Office of the Secretary

Submission for OMB Review: Comment Request

July 8, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316 / Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: ERISA Summary Annual Report Requirement.

OMB Control Number: 1210-0040.

Affected Public: Businesses or other for-profits.

Estimated Number of Respondents: 716,000.

Total Estimated Annual Burden Hours: 2,142,100.

Total Estimated Annual Costs Burden (excludes hourly wage costs): $46,551,000.

Description: Employee Retirement Income Security Act of 1974 section 104(b)(3) and regulations codified at 29 CFR 2520.104b-10 require employee benefit plans to furnish a summary of the plan's annual report to participants and specified beneficiaries for purposes of disclosure of basic financial information. For additional information, see related notice published at 74 FR 13477 on March 27, 2009.

Darrin A. King,
Departmental Clearance Officer.

[FR Doc. E9-16602 Filed 7-13-09; 8:45 am]

BILLING CODE 4510-29-P